DEPARTMENT OF DEFENSE

Department of the Army

[Docket ID: USA-2016-HQ-0016]

Privacy Act of 1974; System of Records

AGENCY: Department of the Army, DoD.

ACTION: Notice to alter a system of records.

SUMMARY: The Department of the Army proposes to alter a system of records notice, A0040-905 DASG, entitled “Defense Privately Owned Animal Record Files.” This system records registration, vaccination, and/or treatment of animals; to compile statistical data; and to identify animals registered with the Veterinary Treatment Facility. It is used by veterinarians and health care authorities to identify the animal, verify ownership, record history, and to insure veterinary care, treatment, and immunizations provided to animals of authorized owners is recorded; to compile statistical data; conduct research; teach; assist in law enforcement, to include investigation and litigation; and evaluate the care provided.

DATES: Comments will be accepted on or before June 20, 2016. This proposed action will be effective the date following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate for Oversight and Compliance, 4800 Mark Center Drive, Mailbox #24, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Rogers, Department of the Army, Privacy Office, U.S. Army Records Management and Declassification Agency, 7701 Telegraph Road, Casey Building, Suite 144, Alexandria, VA 22325-3905 or by calling (703) 428-7499.

SUPPLEMENTARY INFORMATION: The Department of the Army's notices for systems of records subject to the Privacy Act of 1974 (5 U.S.C. 552a), as amended, have been published in the Federal Register and are available from the address in FOR FURTHER INFORMATION CONTACT or from the Defense Privacy and Civil Liberties Division Web site at http://dpcld.defense.gov/.

The proposed systems reports, as required by 5 U.S.C. 552a(r) of the Privacy Act, as amended were submitted on May 2, 2016, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: May 16, 2016.
Aaron Siegel,
Alternate OSD Federal Register Liaison Officer, Department of Defense.

A0040-905 DASG

System name:

Defense Privately Owned Animal Record Files (January 8, 2001, 66 FR 1312)

Changes:

* * * * *

System name:

Delete entry and replace with “Defense Privately Owned Animal Records.”

System location:

Delete entry and replace with “Veterinary medical facilities on DoD bases and installations where veterinary services are provided. Official mailing addresses are published as an appendix to the Army's compilation of systems of records notices.”

Categories of individuals covered by the system:

Delete entry and replace with “Eligible military personnel (including retirees and reservists), DoD civilians, and their family members who utilize base veterinary services for care of their privately owned animals.”

Categories of records in the system:

Delete entry and replace with “Owner/Sponsor's full name, grade/rank, branch of service, home address, personal telephone number, and business or work email address; military status; name of animal, record of treatment for the animal, billing statements, and related veterinary medical information.”

Authority for maintenance of the system:

Delete entry and replace with “10 U.S.C. 3013, Secretary of the Army; DoD Directive 6400.04E, DoD Veterinary Public and Animal Health Services; and Army Regulation 40-905, Veterinary Health Services.”

* * * * *

Routine uses of records maintained in the system, including categories of users and the purposes of such uses:

Delete entry and replace with “In addition to those disclosures generally permitted under 5 U.S.C. 552a(b) of the Privacy Act of 1974, as amended, the records contained therein may specifically be disclosed outside the DoD as a routine use pursuant to 5 U.S.C. 552a(b)(3) as follows:

To civilian veterinary and medical institutions, Federal, State, and local agencies to provide data used in preventative health and zoonotic disease control programs; report medical conditions required by law; and accrediting the Veterinary Corps Officers for training and instruction.

The DoD Blanket Routine Uses set forth at the beginning of the Army's compilation of systems of records notices may apply to this system. The complete list of DoD blanket routine uses can be found online at: http://dpcld.defense.gov/Privacy/SORNsIndex/BlanketRoutineUses.aspx.”

Policies and practices for storing, retrieving, accessing, retaining, and disposing of records in the system:

Storage:

Delete entry and replace with “Electronic storage media and paper records.”

Retrievability:

Delete entry and replace with “By owner's or animal's name, animal's microchip number.”

Safeguards:

Delete entry and replace with “Records are maintained in buildings which are locked when unattended and are accessed only by authorized personnel having an official need-to-know. DoD Components and approved users ensure that electronic and paper records collected and used are maintained in controlled areas accessible only to authorized personnel. Access to computerized data is restricted by use of common access cards (CACs) and is accessible only by users with an authorized account. The system and electronic backups are maintained in controlled facilities that employ physical restrictions and safeguards such as security guards, identification badges, key cards, and locks.”

Retention and disposal:

Delete entry and replace with “Paper records are destroyed upon death of the animal, transfer of owner, or 3 years after last entry in the record. Paper records are shredded. Electronic records are maintained permanently.”

* * * * *

Notification procedure:

Delete entry and replace with “Individuals seeking to determine if information about themselves is contained in this system should address written inquiries to the veterinary facility at the installation where their animal was treated or euthanized.

Individuals should provide their full name, home address, telephone number, and any identifiable information for their animal, to include microchip number if applicable.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).' ”

Record access procedures:

Delete entry and replace with “Individuals seeking access to records about themselves contained in this system should address written inquiries to the veterinary facility at the installation where their animal was treated or euthanized.

Individuals should provide their full name, home address, telephone number, and any identifiable information for their animal, to include microchip number if applicable.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).'

Personal visits may be made to the veterinary facility where animal was treated. Owners must provide personal identification such as a valid military identification card or driver's license.”

Contesting record procedures:

Delete entry and replace with “The Army's rules for accessing records, and for contesting contents and appealing initial agency determinations are contained in 32 CFR part 505, Army Privacy Program; or may be obtained from the system manager.”

Record source categories:

Delete entry and replace with “From the individual and veterinarian reports.”

* * * * *

[FR Doc. 2016-11808 Filed 5-18-16; 8:45 am]

BILLING CODE 5001-06-P